DEPARTMENT OF COMMERCE

National Oceanic and Atmospheric Administration

RIN 0648-XV100

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a 3-day meeting in October to discuss the items contained in the agenda in the SUPPLEMENTARY INFORMATION.

DATES: The meetings will be held from October 29, 2019 to October 31, 2019, starting on Tuesday October 29 at 9 a.m., through October 31 at 5 p.m.

ADDRESSES: The meetings will be held at the Embassy Suites Hotel, 8000 Tartak St., Isla Verde, Carolina, Puerto Rico.

FOR FURTHER INFORMATION CONTACT: Miguel A. Rolón, Caribbean Fishery Management Council, 270 Muñoz Rivera Avenue, Suite 401, San Juan, Puerto Rico 00918-1903, telephone: (787) 766-5926.

SUPPLEMENTARY INFORMATION:

Draft Agenda

—Call to Order

—Adoption of the Agenda

—Review of National Standard 1 Technical Guidance for Designing, Evaluating, and Implementing Carry-over and Phase-in Provisions within ABC Control Rules—Dan Holland—Northwest Fisheries Science Center

—Review Draft Report to Congress as required in Section 201 of the Modernizing Recreational Fisheries Management Act of 2018

—Stock Assessment Review: SEDAR 57—Caribbean Spiny Lobster—Adyan Ríos, Southeast Fisheries Science Center

—Development of three ecosystem conceptual models- one each for Puerto Rico, St. Thomas/St. John, and St. Croix

—Summary August 2019 Meeting

Chair Presentation to CFMC 166

—Finalize the Generic Ecosystem Conceptual Model

—Determination of direction and strengths of the boxes representing ecosystem components (e.g., ecological, economic, social)

—SSC Development of Puerto Rico Ecosystem Conceptual Model

—Determination of Critical Links that can serve as Indicators

—SSC Development of St. Thomas/St. John Ecosystem Conceptual Model

—Determination of Critical Links that can serve as Indicators

—SSC Development of St. Croix Ecosystem Conceptual Model

—Determination of Critical Links that can serve as Indicators

—Other Business

—Adjourn

The order of business may be adjusted as necessary to accommodate the completion of agenda items. The meeting will begin on October 29, 2019 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Authority: 16 U.S.C. 1801 et seq.

Dated: October 8, 2019.
Tracey L. Thompson,
Acting Deputy Director, Office of Sustainable Fisheries, National Marine Fisheries Service.

[FR Doc. 2019-22288 Filed 10-10-19; 8:45 am]

BILLING CODE 3510-22-P